DEPARTMENT OF ENERGY

Federal Energy Regulatory Commission

[Docket No. ER00-1463-001, et al.]

Orion Power MidWest, L.P., et al.; Electric Rate and Corporate Regulation Filings

April 24, 2000.

Take notice that the following filings have been made with the Commission:

1. Orion Power MidWest, L.P.

[Docket No. ER00-1463-001]

Take notice that on April 19, 2000, Orion Power MidWest, L.P., with an office located at c/o Orion Power Holdings, Inc., 7 E. Redwood Street, 10th Floor, Baltimore, Maryland 21202, filed with the Federal Energy Regulatory Commission (Commission) a revised FERC Electric Rate Schedule No. 1 in compliance with the Commission's Order of March 29, 2000.

Comment date: May 10, 2000, in accordance with Standard Paragraph E at the end of this notice.

2. Central Maine Power Company

[Docket No. ER00-2063-001]

Take notice that on April 19, 2000, Central Maine Power Company (CMP), tendered for filing unexecuted local network operating agreements (LNOAs) for the following customers: (1) Gates Formed Fiber; (2) Maine Energy Recovery Co.; (3) Perrier Group of America; (4) Regional Waste Systems; (5) Rumford Power Assoc.; and (6) Skygen Services—AELLC.

The LNOAs were inadvertently omitted from CMP's initial filing in this proceeding on March 30, 2000.

Copies of this filing have been served upon the Maine Public Utilities Commission and copies of this filing (specific to the particular customer only) have been sent to the customers listed above.

Comment date: May 10, 2000, in accordance with Standard Paragraph E at the end of this notice.

3. Carolina Power & Light Company

[Docket No. ER00-2237-000]

Take notice that on April 19, 2000, Carolina Power & Light Company (CP&L) tendered for filing an executed Power Purchase Agreement with The City of Camden, South Carolina under the provisions of CP&L's Market-Based Rates Tariff, FERC Electric Tariff No. 4.

CP&L is requesting an effective date of July 1, 2000 for this Agreement.

Copies of the filing were served upon the North Carolina Utilities Commission and the South Carolina Public Service Commission.

Comment date: May 10, 2000, in accordance with Standard Paragraph E at the end of this notice.

4. Cinergy Services, Inc.

[Docket No. ER00-2238-000]

Take notice that on April 19, 2000, Cinergy Services, Inc. (Cinergy) and El Paso Merchant Energy, L.P. (El Paso), as successor in interest to Sonat Power Marketing, L.P., filed a request for termination of Non-Firm Service Agreement No. 9 under Cinergy Operating Companies, FERC Open Access Transmission Tariff Volume No. 5.

Cinergy and El Paso are requesting an effective date of April 23, 2000.

Comment date: May 10, 2000, in accordance with Standard Paragraph E at the end of this notice.

5. Cinergy Services, Inc.

[Docket No. ER00-2239-000]

Take notice that on April 19, 2000, Cinergy Services, Inc. (Cinergy) and El Paso Merchant Energy, L.P. (El Paso), as successor in interest to Sonat Power Marketing, L.P., filed a request for termination of Firm Service Agreement No. 64, under Cinergy Operating Companies, FERC Open Access Transmission Tariff Volume No. 5.

Cinergy and El Paso are requesting an effective date of April 23, 2000.

Comment date: May 10, 2000, in accordance with Standard Paragraph E at the end of this notice.

6. Cinergy Services, Inc.

[Docket No. ER00-2240-000]

Take notice that on April 19, 2000, Cinergy Services, Inc. (Cinergy) and El Paso Merchant Energy, L.P. (El Paso), as successor in interest to Sonat Power Marketing, L.P., filed a request for termination of Network Service Agreement No. 141 under FERC Open Access Transmission Tariff Volume No. 5.

Cinergy and El Paso are requesting an effective date of April 23, 2000.

Comment date: May 10, 2000, in accordance with Standard Paragraph E at the end of this notice.

7. American Electric Power Service Corporation

[Docket No. ER00-2241-000]

Take notice that on April 19, 2000, the American Electric Power Service Corporation (AEPSC), as agent for Indiana Michigan Power Company (I&M), tendered for filing with the Federal Energy Regulatory Commission, Modification No. 13 to the Interconnection Agreement, dated February 21, 1964 between I&M and PSI Energy, Inc. (PSI).

AEPSC requests an effective date of March 1, 2000 for the tendered Modification.

A copy of the filing was served upon PSI, Indiana Municipal Power Agency, and the Indiana Utility Regulatory Commission.

Comment date: May 10, 2000, in accordance with Standard Paragraph E at the end of this notice.

8. Central Maine Power Company

[Docket No. ER00-2242-000]

Take notice that on April 19, 2000, Central Maine Power Company (CMP) tendered for filing pursuant to Section 205 of the Federal Power Act and Part 35 of the Federal Energy Regulatory Commission's Regulations (18 CFR Part 35), an unexecuted service agreement for local network transmission service and an unexecuted local network operating agreement between CMP and Northeast Empire Limited Partnership #1 (Northeast).

Copies of this filing have been served upon the Maine Public Utilities Commission and Northeast.

CMP respectfully requests that these Agreements become effective on March 19, 2000.

Comment date: May 10, 2000, in accordance with Standard Paragraph E at the end of this notice.

9. The Dayton Power and Light Company

[Docket No. ER00-2243-000]

Take notice that on April 19, 2000, The Dayton Power and Light Company (Dayton) tendered for filing under Section 205 of the Federal Power Act, revised tariff sheets constituting a modified version of Schedule 7 (Real Power Losses Service) of Dayton's open access transmission tariff (Tariff), Dayton's FERC Electric Tariff, Second Revised Volume No. 5, and a modified version of each of the Tariff's forms of service agreement reflecting changes to Schedule 7.

Dayton requests that its revised tariff sheets be placed into effect as of May 1, 2000.

A copy of this filing was served upon all customers under Dayton's open access transmission tariff and the Public Utilities Commission of Ohio.

Comment date: May 10, 2000, in accordance with Standard Paragraph E at the end of this notice.

10. Florida Power Corporation

[Docket No. ER00-2244-000]

Take notice that on April 19 , 2000, Florida Power Corporation (FPC) tendered for a filing a service agreement between Constellation Power Source, Inc. and FPC under FPC's Market-Based Wholesale Power Sales Tariff (MR-1), FERC Electric Tariff, Original Volume Number 8. This Tariff was accepted for filing by the Commission on June 26, 1997, in Docket No. ER97-2846-000.

The service agreement with Constellation Power Source, Inc. is proposed to be effective April 12, 2000.

Comment date: May 10, 2000, in accordance with Standard Paragraph E at the end of this notice.

11. Tampa Electric Company

[Docket No. ER00-2245-000]

Take notice that on April 19, 2000, Tampa Electric Company (Tampa Electric) tendered for filing an executed service agreement with the City of Tallahassee, Florida (Tallahassee) under Tampa Electric's market-based sales tariff to supersede the unexecuted agreement with Tallahassee that is currently on file with the Commission.

Tampa Electric requests that the executed service agreement be made effective on April 19, 2000.

Copies of the filing have been served on Tallahassee and the Florida Public Service Commission.

Comment date: May 10, 2000, in accordance with Standard Paragraph E at the end of this notice.

12. Hardee Power Partners Limited

[Docket No. ER00-2246-000]

Take notice that on April 19, 2000, Hardee Power Partners Limited (HPP) tendered for filing an executed service agreement with the Orlando Utilities Commission (Orlando) under HPP's market-based sales tariff, to supersede the unexecuted agreement with OUC that is currently on file with the Commission.

HPP requests that the executed service agreement be made effective on April 19, 2000.

Copies of the filing have been served on OUC and the Florida Public Service Commission.

Comment date: May 10, 2000, in accordance with Standard Paragraph E at the end of this notice.

13. Columbus Southern Power Company

[Docket No. ER00-2247-000]

Take notice that on April 19, 2000, American Electric Power Service Corporation (AEP), on behalf of Columbus Southern Power Company (CSP) tendered for filing with the Federal Energy Regulatory Commission, a Facilities, Operations, Maintenance and Repair Agreement (Agreement) dated January 1, 2000, between CSP and Buckeye Rural Electric Cooperative, Inc. (BREC) and Buckeye Power, Inc. (Buckeye).

Buckeye has requested CSP provide a delivery point, to be known as Bolins Mill Delivery Point (88-17), pursuant to provisions of the Power Delivery Agreement between CSP, Buckeye, The Cincinnati Gas & Electric Company, The Dayton Power and Light Company, Monongahela Power Company, Ohio Power Company and Toledo Edison Company, dated January 1, 1968.

CSP requests an effective date of August 1, 2000 for the tendered agreements.

CSP states that copies of its filing were served upon Buckeye Rural Electric Cooperative, Inc. and the Public Utilities Commission of Ohio.

Comment date: May 10, 2000, in accordance with Standard Paragraph E at the end of this notice.

14. Energy Trading Company, Inc.

[Docket No. ER00-2248-000]

Take notice that on April 19, 2000, Energy Trading Company, Inc. (ETC) petitioned the Commission for acceptance of ETC Rate Schedule FERC No. 1; the granting of certain blanket approvals, including the authority to sell electricity at market-based rates; and the waiver of certain Commission regulations.

ETC intends to engage in wholesale electric power and energy purchases and sales as a marketer. ETC is not in the business of generating or transmitting electric power. ETC is a wholly-owned subsidiary of ETC Buggy Whips Manufacturing Corporation, which, through its affiliates, produces farm equipment and produces and distributes building supplies.

Comment date: May 10, 2000, in accordance with Standard Paragraph E at the end of this notice.

15. Alliant Energy Corporate Services, Inc.

[Docket No. ER00-2249-000]

Take notice that on April 19, 2000, Alliant Energy Corporate Services, Inc. (Alliant Energy) tendered for filing executed Network Service and Network Operating Agreements, establishing MidAmerican Energy Company a Network Transmission Customer under the terms of the Alliant Energy's Open Access Transmission Tariff.

Alliant Energy Corporate Services, Inc. requests an effective date of September 21, 2000, and accordingly, seeks waiver of the Commission's notice requirements.

A copy of this filing has been served upon the Illinois Commerce Commission, the Minnesota Public Utilities Commission, the Iowa Department of Commerce, and the Public Service Commission of Wisconsin.

Comment date: May 10, 2000, in accordance with Standard Paragraph E at the end of this notice.

16. New England Power Pool

[Docket No. ER00-2250-000]

Take notice that on April 20, 1999, New England Power Pool (NEPOOL) Participants Committee submitted the Fifty-Fourth Agreement Amending the New England Power Pool Agreement (the Fifty-Fourth Agreement) which extends the current method of payment and reimbursement of certain specified expenses of restructuring NEPOOL incurred before May 1, 1999 (the Early Restructuring Expense) for an additional eight months to January 1, 2001.

The NEPOOL Participants Committee states that copies of these materials were sent to the New England state governors and regulatory commissions and the NEPOOL Participants.

Comment date: May 11, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-10717 Filed 4-28-00; 8:45 am]

BILLING CODE 6717-01-P